DEPARTMENT OF HEALTH AND HUMAN SERVICES

Centers for Disease Control and Prevention

Disease, Disability, and Injury Prevention and Control Special Emphasis Panel: Strengthening National Capacity in Malaria and Other Infectious Disease Operations Research, Funding Opportunity Announcement (FOA), CK09-004, Initial Review

June 1, 2009.

Correction: This notice was published in the Federal Register on April 29, 2009, Volume 74, Number 81, page 19564. The original notice was published with an incorrect FOA number and incorrect date.

Contact Person for More Information: Wendy Carr, PhD, Centers for Disease Control and Prevention, 1600 Clifton Road, NE., Mailstop D60, Atlanta, GA 30333. Telephone (404) 498-2276.

The Director, Management Analysis and Services Office, has been delegated the authority to sign Federal Register notices pertaining to announcements of meetings and other committee management activities, for both CDC and the Agency for Toxic Substances and Disease Registry.

Dated: May 18, 2009.
Elaine L. Baker,
Director, Management Analysis and Services Office, Centers for Disease Control and Prevention.

[FR Doc. E9-12328 Filed 5-27-09; 8:45 am]

BILLING CODE 4163-18-P